DEPARTMENT OF TRANSPORTATION

Federal Railroad Administration

[Docket Number FRA-2016-0086]

Petition for Waiver of Compliance

In accordance with part 211 of Title 49 Code of Federal Regulations (CFR), this provides the public notice that by a document dated August 19, 2016, BNSF Railway Company (BNSF) has petitioned the Federal Railroad Administration (FRA) for a waiver of compliance from certain provisions of the Federal railroad safety regulations contained at 49 CFR part 229, Railroad Locomotive Safety Standards, and 49 CFR part 232, Brake System Safety Standards for freight and other non-passenger trains and equipment; end-of-train devices. Specifically, BNSF seeks a test waiver to investigate whether the 92-day interval for calibration of the air flow method (AFM) indicator required by 49 CFR 229.29(b) and 232.205(c)(1)(iii) can be safely extended to 184 days on locomotives equipped with New York Air Brake (NYAB) CCB-II air brake systems. This petition has been assigned Docket Number FRA-2016-0086.

In the petition for waiver, BNSF states that it has been collecting data for 3 years in support of an extended interval of 184 days for calibration of the AFM indicator on CCB-II air brake systems, and it has obtained support for this extension from NYAB. Summaries and analysis of this data and a statement from NYAB are included as appendices. To validate this assertion, BNSF proposes to designate a test group of 200 locomotives running on the Southern Transcon route between Kansas City (Argentine), KS, and Barstow, CA. These locomotives would be evaluated by a test waiver team at initial AFM indicator calibration, after 92 days, and for locomotives qualified to continue the test, at 184 days. To help ensure the validity of this testing, BNSF has already updated the AFM indicator calibration training of its mechanical forces and has completed a software upgrade on 93 percent of CCB-II equipped locomotives to eliminate a previous problem with loss of AFM calibration data due to dead batteries in the locomotive computer's CPU.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 17, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Robert C. Lauby,
Associate Administrator for Railroad Safety, Chief Safety Officer.

[FR Doc. 2016-23794 Filed 9-30-16; 8:45 am]

BILLING CODE 4910-06-P